NATIONAL TRANSPORTATION SAFETY BOARD

Notice of Availability of the FY2010 Inventory of Service Contracts for the National Transportation Safety Board (NTSB)

SUMMARY: In accordance with Section 743 of Division C of the FY2010 Consolidated Appropriations Act, Public Law 111-175, the NTSB announces the availability of the FY2010 inventory of service contracts.

ADDRESSES: The inventory is available electronically on the following Web site: http://www.ntsb.gov/Info/contractinventory.html.

FOR FURTHER INFORMATION CONTACT: For further information, please contact: Christopher Blumberg, Chief, Acquisition and Lease Management Division, NTSB; 202-314-6102; christopher.blumberg@ntsb.gov.

SUPPLEMENTARY INFORMATION: Section 743 of Division C of the FY2010 Consolidated Appropriations Act, Public Law 111-117, requires civilian agencies to prepare an annual inventory of their service contracts. The inventory includes all service contract actions over $25,000 that were awarded in FY2010. The inventory was prepared in accordance with guidance provided by the Office of Federal Procurement Policy (OFPP) and may be downloaded in electronic form (.pdf) from the Web site at the following location http://www.ntsb.gov/Info/contractinventory.html.

Dated: Tuesday, January 11, 2011.
Candi R. Bing,
Federal Register Liaison Officer.

[FR Doc. 2011-845 Filed 1-14-11; 8:45 am]

BILLING CODE P